DEPARTMENT OF HEALTH AND HUMAN SERVICES

Centers for Disease Control and Prevention

Solicitation of Proposals To Add to or Modify the List of United States Ports at Which Rodent Infestation Inspections Will Be Conducted and Deratting and Deratting Exemption Certificates Issued

AGENCY: Centers for Disease Control and Prevention (CDC), Department of Health and Human Services (HHS).

ACTION: Notice and request for comments.

SUMMARY: CDC is soliciting proposals to add additional ports to or otherwise modify the list of those at which it will conduct rodent infestation inspection of ships and issue Deratting and Deratting Exemption Certificates. While the United States does not require these certificates for ships to enter its seaports, Article 17 of the International Health Regulations requires that the U.S. provide these services, and 42 CFR 71.46 authorizes their performance by CDC through the Public Health Service (PHS).

DATES: Written comments must be received on or before September 30, 2000.

FOR FURTHER INFORMATION CONTACT: James E. Barrow, Chief, Program Operations Branch, Division of Quarantine, National Center for Infectious Diseases, Centers for Disease Control and Prevention (CDC), Mailstop E03, Atlanta, Georgia 30333, telephone (404) 639-8107, FAX (404) 639-2599, E-mail jeb1@cdc.gov.

Authority: 42 U.S.C. 264-271, 42 CFR 71.46, IHR Articles 17 and 53.

SUPPLEMENTARY INFORMATION:

Purpose and Background

The purpose of this announcement is to solicit comments on adding to or otherwise modifying the list of United States ports at which CDC will conduct rodent infestation inspections of ships and issue Deratting and Deratting Exemption Certificates. While the United States does not require these certificates for ships to enter its seaports, CDC currently provides rodent infestation inspections and issues Deratting and Deratting Exemption Certificates for ships at 11 major ports upon request. These ports include: Baltimore, MD; Honolulu, HI; Houston, TX; Jacksonville, FL; Los Angeles, CA; Miami, FL; New Orleans, LA; New York, NY; San Francisco, CA; Savannah, GA; and Seattle, WA., Article 17 of the International Health Regulations, published by the World Health Organization, Geneva, requires that each Health Administration provide these services, and Article 82 outlines the criteria for charging fees; 42 CFR 71.46 authorizes the performance of these services by PHS as carried out by CDC. For many years, CDC provided these services at no cost to the owners or agents of ships requesting them. Consistent with the practice of most foreign countries, and to reduce the cost of the inspection program, beginning on October 1, 1997, CDC consolidated its inspection activities to include only the ports listed above (Federal Register: April 9, 1998 (63 FR 17427)). Further, beginning on June 6, 1999, CDC imposed user fees for inspections conducted at the above listed ports (Federal Register: May 7, 1999 (64 FR 24658)).

Applicability

User fees will continue to be applicable to all rodent infestation inspections conducted by CDC or its vendors.

Proposal for the addition of ports for conducting rodent infestation inspections and issuing Deratting and Deratting Exemption Certificates.

Shipping companies, agents, and all other interested parties are invited to submit proposals for the addition of ports to the list at which rodent infestation inspections will be conducted by CDC or its vendors, and Deratting or Deratting Exemption Certificates issued pursuant to those inspections. Proposals to delete or modify ports on the current list may also be submitted and will be considered. Proposals should be in the following format and should include all supporting information that is to be considered by CDC:

1. Port.

2. Estimated annual number of inspections to be conducted at this port.

3. Estimated annual cost savings to shipping interests attributable to services at this port.

4. Narrative justification and additional supporting information.

Any addition to or modification of the list of ports at which services will be provided will be at the sole discretion of CDC. Information submitted will be considered, along with the availability and suitability of potential vendors at the ports proposed for addition or modification. The user fee charged for services at all ports may be affected by the cost of vendor-provided services at any added or modified ports.

Dated: September 7, 2000.
Thena M. Durham,
Director, Executive Secretariat, Centers for Disease Control and Prevention (CDC).

[FR Doc. 00-23466 Filed 9-12-00; 8:45 am]

BILLING CODE 4163-18-P